DEPARTMENT OF ENERGY

Federal Energy Regulatory Commission

[Docket No. EC03-18-002, et al.]

Athens Generating Company, L.P., et al.; Electric Rate and Corporate Filings

July 3, 2003.

The following filings have been made with the Commission. The filings are listed in ascending order within each docket classification.

1. Athens Generating Company, L.P., Covert Generating Company, LLC, Harquahala Generating Company, LLC, Millennium Power Partners, L.P., and MACH Gen, LLC

[Docket No. EC03-18-002]

Take notice that on June 25, 2003, Athens Generating Company, L.P., Covert Generating Company, LLC, Harquahala Generating Company, LLC, and Millennium Power Partners, L.P. (together, the NEG Companies), each of which is an indirect, wholly-owned subsidiary of PG&E National Energy Group, Inc., and MACH Gen, LLC (together with the NEG Companies, the Applicants) tendered for filing with the Federal Energy Regulatory Commission (Commission) pursuant to Section 203 of the Federal Power Act and part 33 of the Commission's regulations, 18 CFR part 33, a request for additional flexibility in implementing the proposed transfer of jurisdictional facilities (the Transfer) authorized by the Commission's June 5, 2003 order. See Athens Generating Company, L.P., 103 FERC ¶ 61,290 (2003).

Comment Date: July 16, 2003.

2. Francis Street Energy, LLC

[Docket No. EC03-99-000]

Take notice that on June 27, 2003, Francis Street Energy LLC (Applicant), filed with the Federal Energy Regulatory Commission (Commission) an application pursuant to Section 203 of the Federal Power Act seeking authorization for the Applicant to acquire 100% of the upstream membership interests in Capital Center Generating Company, LLC (CCGC). In addition, Applicant gave notice of the change in status that will result from the transaction described in the application.

Comment Date: July 18, 2003.

3. D. E. Shaw Plasma Power, L.L.C.

[Docket No. EL03-128-000]

Take notice that on July 1, 2003, D. E. Shaw Plasma Power, L.L.C. supplemented its Petition for A Declaratory Order Disclaiming Jurisdiction; and Request for Expedition (the Petition) by filing, confidentially, the form of License Agreement referenced in the Petition.

Comment Date: July 14, 2003.

4. Athens Generating Company, L.P., Covert Generating Company, LLC, Harquahala Generating Company, LLC, and Millennium Power Partners, L.P.

[Docket Nos. ER99-4282-004, ER01-520-004, ER01-748-004, and ER98-830-008]

Take notice that on June 30, 2003, Athens Generating Company, L.P., Covert Generating Company, LLC, Harquahala Generating Company, LLC, Millennium Power Partners, L.P., (together the NEG Companies), each of which is an indirect, wholly-owned subsidiary of PG&E National Energy Group, Inc., and MACH Gen, LLC, tendered for filing information that reflects a potential change in upstream ownership that is different from the characteristics relied upon by the Commission in approving market-based pricing for the NEG Companies.

Comment Date: July 14, 2003.

5. Entergy Services, Inc.

[Docket No. ER02-2014-011]

Take notice that on June 30, 2003, Entergy Services, Inc., (Entergy) submitted for filing in compliance with the Commission's order issued March 13, 2003, 102 FERC ¶ 61,28, a status report regarding two issues: (1) Entergy's evaluation of alternative methods of designating short-term network resources under the Network Integration Transmission Service provisions of the Entergy Open Access Transmission Tariff, and

(2) Energy's evaluation of an Available Flowgate Capacity methodology as an alternative to evaluating transmission service requests with Available Transfer Capability and Generator Operating Limits calculations.

Comment Date: July 21, 2003.

6. New York Independent System Operator, Inc.

[Docket No. ER03-690-001]

Take notice that on June 24, 2003, New York Independent System Operator, Inc. (NYISO) submitted for filing information relating to the proposed revisions to its Market Administration and Control Area Services Tariff and its Open Access Transmission Tariff to implement new pricing rules for the Hydro-Quebec.

Comment Date: July 15, 2003.

7. Dynegy Power Services, Inc.

[Docket No. ER03-999-000]

Take notice that on June 27, 2003, Dynegy Power Services, Inc. (DPS) pursuant to sections 35.15 and 131.53, 18 CFR 35.15 and 131.53, of the Commission's Regulations, filed with the Federal Energy Regulatory Commission a Notice of Cancellation of DPS's Market-Based FERC Electric Rate Tariff and all rate schedules and/or service agreements thereunder effective June 30, 2003.

Comment Date: July 18, 2003.

8. Illinova Energy Partners, Inc.

[Docket No. ER03-1000-000]

Take notice that on June 27, 2003, Illinova Energy Partners, Inc. (IEP) pursuant to sections 35.15 and 131.53, 18 CFR 35.15 and 131.53, of the Commission's Regulations, filed with the Federal Energy Regulatory Commission a Notice of Cancellation of IEP's Market-Based FERC Electric Rate Tariff and all rate schedules and/or service agreements thereunder effective June 30, 2003.

Comment Date: July 18, 2003.

9. Galt Power, Inc.

[Docket No. ER03-1001-000]

Take notice that on June 30, 2003, Galt Power, Inc. (Galt Power) petitioned the Commission for acceptance of Galt Power Rate Schedule FERC No. 1; the granting of certain blanket approvals, including the authority to sell electricity at market-based rates; and the waiver of certain Commission Regulations.

Galt Power states that it intends to engage in wholesale electric power and energy purchases and sales as a marketer. Galt Power also states it is not in the business of generating or transmitting electric power.

Comment Date: July 21, 2003.

10. Michigan Electric Transmission Company, LLC

[Docket No. ER03-1003-000]

Take notice that on June 30, 2003, Michigan Electric Transmission Company, LLC (METC) submitted proposed amendments to the following agreements: (1) Project I Transmission Ownership and Operating Agreement Between Consumers Power Company and Michigan South Central Power Agency dated November 20, 1980; (2) Campbell Unit No. 3 Transmission Ownership and Operating Agreement Between Consumers Power Company and Northern Michigan Electric Cooperative, Inc. and Wolverine Electric Cooperative, Inc., dated August 15, 1980; (3) Campbell Unit No. 3 Transmission Ownership and Operating Agreement Between Consumers Power Company and Michigan Public Power Agency dated October 1, 1979; (4) Belle River Transmission Ownership and Operating Agreement Between Consumers Power Company and Michigan Public Power Agency dated December 1, 1982; and (5) Wolverine Transmission Ownership and Operating Agreement Between Consumers Power Company and Wolverine Power Supply Cooperative, Inc., dated July 27, 1992.

METC states that the proposed amendments are intended to allow for the reimbursement to METC for certain Midwest Independent Transmission System Operator, Inc. costs and annual charges associated with the load of the Customers. METC requests an effective date of July 1, 2003 for the proposed amendments.

Comment Date: July 21, 2003.

11. PJM Interconnection, L.L.C.

[Docket No. ER03-1004-000]

Take notice that on June 30, 2003, PJM Interconnection, L.L.C. (PJM), submitted for filing five interim interconnection service agreements (Interim ISAs) between PJM and PSEG Fossil, L.L.C., Exelon Corporation, Constellation Power Source Generation, Inc., and PSEG Power, L.L.C. and five notices of cancellation of certain Interim ISAs that have been superseded. PJM requests a waiver of the Commission's 60-day notice requirement to permit effective dates agreed to by the parties to the agreements.

PJM states that copies of this filing were served upon the parties to the agreements and the state regulatory commissions within the PJM region.

Comment Date: July 21, 2003.

12. PJM Interconnection, L.L.C.

[Docket No. ER03-1013-000]

Take notice that on July 2, 2003, PJM Interconnection, L.L.C. (PJM) tendered for filing with the Federal Energy Regulatory Commission (Commission) an emergency request for expedited approval of revisions to the PMJ Tariff and PJM Operating Agreement to establish an interim ceiling on the permitted number of bids and offers submitted in the monthly PJM financial transmission rights (FTR) auctions, to be effective during the period of suspension of the changes previously filed in this proceeding. PJM states that expedited approval is required because PJM is concerned that, absent such a ceiling, it may be unable to conduct the next monthly FTR auction, which is scheduled to commence on July 16, 2003.

PJM proposes an effective date of July 15, 2003 for the proposed revisions, and requests waiver of the Commission's 60-day notice requirement to permit such effective date. PJM states that copies of this filing were served upon all PJM members and each state electric utility regulatory commission in the PJM region. PJM states that it also served a copy of its filing by overnight delivery on all persons on the Commission's service list for this proceeding and posted a copy of the entire filing on its Internet site, http://www.pjm.com.

Comment Date: July 11, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-17542 Filed 7-10-03; 8:45 am]

BILLING CODE 6717-01-P